ENVIRONMENTAL PROTECTION AGENCY

40 CFR Part 52

[EPA-R05-OAR-2008-0812, EPA-RO5-OAR-2009-0292; FRL-8932-4]

Approval and Promulgation of Implementation Plans; Ohio; Volatile Organic Compound Emission Control Measures for Cleveland

AGENCY: Environmental Protection Agency (EPA).

ACTION: Final rule.

SUMMARY: EPA is approving several volatile organic compound (VOC) control rules that were submitted on September 4, 2008, and March 23, 2009, into the Ohio State Implementation Plan (SIP). The purpose of these rules is to satisfy the VOC reasonably available control technology (RACT) requirement for the Cleveland-Akron 8-hour ozone nonattainment area. These rules are approvable because they satisfy the control and enforceability requirements of RACT, including Ohio's requirement to adopt VOC RACT rules for the Control Technique Guideline (CTG) documents issued by EPA in 2006 and 2007. EPA proposed these rules for approval on May 7, 2009, and received no comments.

DATES: This final rule is effective on August 27, 2009.

ADDRESSES: EPA has established a docket for this action under Docket ID Nos. EPA-R05-OAR-2008-0812 and EPA-RO5-OAR-2009-0292. All documents in the docket are listed on the http://www.regulations.gov Web site. Although listed in the index, some information is not publicly available, i.e., Confidential Business Information (CBI) or other information whose disclosure is restricted by statute. Certain other material, such as copyrighted material, is not placed on the Internet and will be publicly available only in hard copy form. Publicly available docket materials are available either electronically through http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Criteria Pollutant Section, Air Programs Branch (AR-18J), Environmental Protection Agency, Region 5, 77 West Jackson Boulevard, Chicago, Illinois 60604, (312) 886-6052, rosenthal.steven@epa.gov.

SUPPLEMENTARY INFORMATION: Throughout this document whenever “we,” “us,” or “our” is used, we mean EPA. This supplementary information section is arranged as follows:

I. What Public Comments Were Received on the Proposed Approval and What Is EPA's Response?

II. What Action Is EPA Taking?

III. What Is the Purpose of This Action?

IV. Statutory and Executive Order Reviews

I. What Public Comments Were Received on the Proposed Approval and What Is EPA's Response?

No comments were received.

II. What Action Is EPA Taking?

EPA is approving several revised and new VOC rules into the Ohio SIP. Several rule revisions expand applicability to include sources in the Cleveland-Akron 8-hour ozone nonattainment area, in particular for commercial bakery oven facilities, synthetic organic chemical manufacturing industry (SOCMI) reactors and distillation units, process vents in batch operations, wood furniture manufacturing operations, and industrial wastewater operations. Ohio adopted new rules for aerospace manufacturing and rework facilities, ship building and ship repair operations, plastic parts coating, and the storage of volatile organic liquids. In addition, Ohio adopted new rules and revisions to existing rules to address the CTGs issued by EPA in 2006 and 2007. These CTG categories are lithographic printing, industrial solvent cleaning, flat wood paneling, paper coating, metal furniture coating, large appliance coating, and flexible package printing. Ohio adopted several other minor revisions.

III. What Is the Purpose of This Action?

The primary purpose of these rules is to satisfy the requirement in section 182(b) of Part D of title I of the Clean Air Act (CAA) that VOC RACT rules be adopted for the Cleveland-Akron 8-hour ozone nonattainment area. These rules satisfy the requirement for VOC RACT rules for existing, pre-2006, CTG and major non-CTG source categories which were due on September 15, 2006, as well as the requirement to adopt VOC RACT rules for the CTG documents issued by EPA in 2006 and 2007.

On March 24, 2008, (73 FR 15416) EPA made a finding that Ohio failed to submit those VOC RACT rules, which were due on September 15, 2006, for the Cleveland-Akron 8-hour ozone nonattainment area. Ohio submitted the fully adopted required VOC RACT rules to EPA on September 4, 2008. In a November 19, 2008, letter to Ohio, EPA confirmed that Ohio's September 4, 2008, submittal satisfies the requirement for submitting VOC RACT rules for existing, pre-2006, CTG and major non-CTG source categories which were due on September 15, 2006. Failure to submit a complete VOC RACT submittal would have triggered the offset sanction identified in CAA section 179(b)(2) on September 24, 2009, and the highway funding sanction in accordance with CAA section 179(b)(1) on March 24, 2010. EPA would have been required by CAA section 110(c) to promulgate a Federal Implementation Plan (FIP) if it had not approved these VOC RACT rules into Ohio's SIP by March 24, 2010. Approval of these rules ends any obligation for EPA to promulgate a FIP addressing this VOC RACT requirement. Ohio's submittal of March 23, 2009, incorporates the rule revisions which address the CTGs issued in September 2006 and September 2007.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 28, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Incorporation by reference, Nitrogen dioxide, Ozone, Reporting and recordkeeping requirements, Volatile organic compounds.

Dated: July 8, 2009.
Walter W. Kovalick Jr.,
Acting Regional Administrator, Region 5.

40 CFR part 52 is amended as follows:

PART 52—[AMENDED]

1. The authority citation for part 52 continues to read as follows:

Authority: 42 U.S.C. 7401 et seq.

Subpart KK—Ohio

2. Section 52.1870 is amended by adding and reserving paragraphs (c)(144) and (c)(145) and by adding paragraph (c)(146) to read as follows:

§ 52.1870 Identification of plan.

* * * * *

(c) * * *

(144) [Reserved]

(145) [Reserved]

(146) On September 4, 2008, and March 23, 2009, the Ohio Environmental Protection Agency submitted several volatile organic compound rules for approval into the Ohio State Implementation Plan. Only those paragraphs in 3745-21-09 that were revised in the September 4, 2008, and/or March 23, 2009, submittals have been incorporated into the SIP.

(i) Incorporation by reference.

(A) Ohio Administrative Code Rule 3745-21-01 “Definitions.”, adopted March 23, 2009, effective April 2, 2009.

(B) Ohio Administrative Code Rule 3745-21-02 “Ambient air quality standards and guidelines.”, adopted August 15, 2008, effective August 25, 2008.

(C) Ohio Administrative Code Rule 3745-21-03 “Methods of ambient air quality measurement.”, adopted August 15, 2008, effective August 25, 2008.

(D) Ohio Administrative Code Rule 3745-21-04 “Attainment dates and compliance time schedules.”, adopted March 23, 2009, effective April 2, 2009.

(E) Ohio Administrative Code Rule 3745-21-06 “Classification of Regions.”, adopted August 15, 2008, effective August 25, 2008.

(F) Ohio Administrative Code Rule 3745-21-08 “Control of carbon monoxide emissions from stationary sources.”, adopted August 15, 2008, effective August 25, 2008.

(G) Ohio Administrative Code Rule 3745-21-09 “Control of emissions of volatile organic compounds from stationary sources and perchloroethylene from dry cleaning facilities”: (A), (B), (C), (D), (E), (F), (G), (H), (I), (J), (K), (O), (P), (R), (S), (T), (U)(1)(a), (U)(1)(b), (U(1)(c), (U)(1)(d), (U)(1)(e), (U)(1)(f), (U)(1)(g), (U)(1)(i), (U)(2)(f), (U)(2)(j), (U)(2)(k), (U)(2)(l), (W), (X), (Y), (Z), (DD), (HH), (NN), (RR), (SS), (TT), (VV), (YY), (DDD), adopted March 23, 2009, effective April 2, 2009.

(H) Ohio Administrative Code Rule 3745-21-10 “Compliance test methods and procedures.”, adopted August 15, 2008, effective August 25, 2008.

(I) Ohio Administrative Code Rule 3745-21-12 “Control of volatile organic compound emissions from commercial bakery oven facilities.”, adopted August 15, 2008, effective August 25, 2008.

(J) Ohio Administrative Code Rule 3745-21-13 “Control of volatile organic compounds from reactors and distillation units employed in SOCMI chemical production.”, adopted August 15, 2008, effective August 25, 2008.

(K) Ohio Administrative Code Rule 3745-21-14 “Control of Volatile organic compound emissions from process vents in batch operations.”, adopted March 23, 2009, effective April 2, 2009.

(L) Ohio Administrative Code Rule 3745-21-15 “Control of volatile organic compound emissions from wood furniture manufacturing operations.”, adopted August 15, 2008, effective August 25, 2008.

(M) Ohio Administrative Code Rule 3745-21-16 “Control of volatile organic compound emissions from industrial wastewater.”, adopted March 23, 2009, effective April 2, 2009.

(N) Ohio Administrative Code Rule 3745-21-18 “Commercial Motor Vehicle and Mobile Equipment Refinishing Operations.”, adopted March 23, 2009, effective April 2, 2009.

(O) Ohio Administrative Code Rule 3745-21-19 “Control of volatile organic compound emissions from aerospace manufacturing and rework facilities.”, adopted August 15, 2008, effective August 25, 2008.

(P) Ohio Administrative Code Rule 3745-21-20 “Control of volatile organic compound emissions from shipbuilding and ship repair operations.”, adopted August 15, 2008, effective August 25, 2008.

(Q) Ohio Administrative Code Rule 3745-21-21 “Storage of volatile organic liquids in fixed roof tanks and external floating roof tanks.”, adopted March 23, 2009, effective April 2, 2009.

(R) Ohio Administrative Code Rule 3745-21-22 “Lithographic and letterpress printing.”, adopted March 23, 2009, effective April 2, 2009.

(S) Ohio Administrative Code Rule 3745-21-23 “Industrial cleaning solvents.”, adopted March 23, 2009, effective April 2, 2009.

(T) Ohio Administrative Code Rule 3745-21-24 “Flat wood paneling coatings.”, adopted March 23, 2009, effective April 2, 2009.

(U) August 15, 2008, “Director's Final Findings and Orders”, signed by Chris Korleski, Director, Ohio Environmental Protection Agency.

(V) March 23, 2009, “Director's Final Findings and Orders”, signed by Chris Korleski, Director, Ohio Environmental Protection Agency.

[FR Doc. E9-17829 Filed 7-27-09; 8:45 am]

BILLING CODE 6560-50-P